DEPARTMENT OF VETERANS AFFAIRS

[OMB Control No. 2900-0066]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 29, 2004.

FOR FURTHER INFORMATION CONTACT: Denise McLamb, Records Management Service (005E3), Department of Veterans Affairs, 810 Vermont Avenue, NW., Washington, DC 20420, (202) 273-8030, FAX (202) 273-5981 or e-mail denise.mclamb@mail.va.gov. Please refer to “OMB Control No. 2900-0066.” Send comments and recommendations concerning any aspect of the information collection to VA's Desk Officer, OMB Human Resources and Housing Branch, New Executive Office Building, Room 10235, Washington, DC 20503, (202) 395-7316. Please refer to “OMB Control No. 2900-0066” in any correspondence.

SUPPLEMENTARY INFORMATION Title: Request to Employer for Employment Information in Connection with Claim for Disability Benefits, VA Form Letter 29-459.

OMB Control Number: 2900-0066.

Type of Review: Extension of a currently approved collection.

Abstract: VA Form Letter 29-459 is used to request employment information from an employer in connection with a claim for disability benefits. VA uses the information to establish the insured's eligibility for disability insurance benefits.

An agency may not conduct or sponsor, and a person is not required to respond to a collection of information unless it displays a currently valid OMB control number. The Federal Register Notice with a 60-day comment period soliciting comments on this collection of information was published on June 2, 2004 at pages 31157—31158.

Affected Public: Individuals or households.

Estimated Annual Burden: 862 hours.

Estimated Average Burden Per Respondent: 10 minutes.

Frequency of Response: On occasion.

Estimated Number of Respondents: 5,167.

Dated: August 16, 2004.
By direction of the Secretary.
Cindy Stewart,
Program Analyst, Records Management Service.

[FR Doc. 04-19692 Filed 8-27-04; 8:45 am]

BILLING CODE 8320-01-P